DEPARTMENT OF THE TREASURY

Internal Revenue Service

26 CFR Parts 1 and 31

[REG-146893-02, REG-115037-00]

RIN 1545-BJ32

Treatment of Services Under Section 482; Allocation of Income and Deductions From Intangibles

AGENCY: Internal Revenue Service (IRS), Treasury.

ACTION: Withdrawal of notice of proposed rulemaking.

SUMMARY: This document withdraws proposed regulations published in the Federal Register on September 10, 2003 (68 FR 53448), related to the treatment of controlled services transactions under section 482 and the allocation of income from intangibles, in particular with respect to contributions by a controlled party to the value of an intangible that is owned by another controlled party. The IRS and Treasury Department are withdrawing those proposed regulations because they have been superseded.

FOR FURTHER INFORMATION CONTACT: Gregory A. Spring (202) 435-5265 (not a toll-free number).

SUPPLEMENTARY INFORMATION:

Background

On September 10, 2003, the Treasury Department and the IRS published in the Federal Register (68 FR 53448, REG-146893-02 and REG-115037-00) proposed regulations relating to the treatment of controlled services transactions and the allocation of income from intangible property, in particular with respect to contributions by a controlled party to the value of intangible property owned by another controlled party. On August 4, 2006, the Treasury Department and the IRS published in the Federal Register (71 FR 44466, TD 9278, REG-146893-02, REG-115037-00, and REG-138603-03) temporary regulations relating to the treatment of controlled services transactions, the allocation of income from intangible property, and stewardship expenses under Treas. Reg. § 1.861-8(e)(4). A notice of proposed rulemaking cross-referencing the temporary regulations was published in the Federal Register on the same day (71 FR 44247). Written comments responding to the notice of proposed rulemaking were received, and a public hearing was held on October 27, 2006. That notice of proposed rulemaking superseded the proposed regulations published in the Federal Register on September 10, 2003.

On August 4, 2009, the Treasury Department and the IRS published in the Federal Register (74 FR 38830, TD 9456) final regulations that are generally consistent with the proposed regulations that were published on August 4, 2006, in the Federal Register (71 FR 44247), and removed the corresponding temporary regulations.

List of Subjects

26 CFR Part 1

Income taxes, Reporting and recordkeeping requirements.

26 CFR Part 31

Employment taxes, Income taxes, Penalties, Pensions, Railroad retirement, Reporting and recordkeeping requirements, Social Security, Unemployment compensation.

Withdrawal of a Notice of Proposed Rulemaking

Accordingly, under the authority of 26 U.S.C. 7805, the notice of proposed rulemaking (REG-146893-02 and REG-115037-00) published in the Federal Register on September 10, 2003 (68 FR 53448) is withdrawn.

Steven T. Miller,
Deputy Commissioner for Services and Enforcement.

[FR Doc. 2010-22239 Filed 9-7-10; 8:45 am]

BILLING CODE 4830-01-P